NUCLEAR REGULATORY COMMISSION

Advisory Committee on Reactor Safeguards Meeting of the Subcommittee on Reactor Fuels; Postponed

The meeting of the ACRS Subcommittee on Reactor Fuels scheduled to be held on February 12, 2002, in Room T-2B3, 11545 Rockville Pike, Rockville, Maryland has been postponed at the request of the NRC staff. Notice of this meeting was published in the Federal Register on Tuesday, January 29, 2002 (67 FR 4290). Rescheduling of this meeting will be announced in a future Federal Register Notice.

For further information contact: Ms. Maggalean W. Weston, cognizant ACRS staff engineer (telephone 301/415-3151) between 7:30 a.m. and 4:15 p.m. (EST) or by e-mail MWW@NRC.gov.

Dated: February 6, 2002.
Sher Bahadur,
Associate Director for Technical Support, ACRS/ACNW.

[FR Doc. 02-3369 Filed 2-11-02; 8:45 am]

BILLING CODE 7590-01-P